DEPARTMENT OF HOMELAND SECURITY

Office of the Secretary

6 CFR Chs. I and II

[DHS Docket No. OGC-RP-04-001]

Unified Agenda of Federal Regulatory and Deregulatory Actions

AGENCY: Office of the Secretary, DHS.

ACTION: Semiannual regulatory agenda.

SUMMARY: This regulatory agenda is a semiannual summary of current and projected rulemakings, existing regulations, and completed actions of the Department of Homeland Security (DHS) and its components. This agenda provides the public with information about DHS's regulatory activity. DHS expects that this information will enable the public to be more aware of, and effectively participate in, the Department's regulatory activity. DHS invites the public to submit comments on any aspect of this agenda.

FOR FURTHER INFORMATION CONTACT:

General

Please direct general comments and inquiries on the agenda to the Regulatory Affairs Law Division, Office of the General Counsel, U.S. Department of Homeland Security, 245 Murray Lane, Mail Stop 0485, Washington, DC 20528-0485.

Specific

Please direct specific comments and inquiries on individual regulatory actions identified in this agenda to the individual listed in the summary of the regulation as the point of contact for that regulation.

SUPPLEMENTARY INFORMATION: DHS provides this notice pursuant to the requirements of the Regulatory Flexibility Act (Pub. L. 96-354, Sept. 19, 1980) and Executive Order 12866 “Regulatory Planning and Review” (Sept. 30, 1993) as incorporated in Executive Order 13563 “Improving Regulation and Regulatory Review” (Jan. 18, 2011), which require the Department to publish a semiannual agenda of regulations. The regulatory agenda is a summary of current and projected rulemakings, as well as actions completed since the publication of the last regulatory agenda for the Department. DHS's last semiannual regulatory agenda was published on December 15, 2015, at 80 FR 77971.

Beginning in fall 2007, the Internet became the basic means for disseminating the Unified Agenda. The complete Unified Agenda is available online at www.reginfo.gov.

The Regulatory Flexibility Act (5 U.S.C. 602) requires Federal agencies to publish their regulatory flexibility agendas in the Federal Register. A regulatory flexibility agenda shall contain, among other things, a brief description of the subject area of any rule which is likely to have a significant economic impact on a substantial number of small entities. DHS's printed agenda entries include regulatory actions that are in the Department's regulatory flexibility agenda. Printing of these entries is limited to fields that contain information required by the agenda provisions of the Regulatory Flexibility Act. Additional information on these entries is available in the Unified Agenda published on the Internet.

The semiannual agenda of the Department conforms to the Unified Agenda format developed by the Regulatory Information Service Center.

Dated: March 18, 2016.
Christina E. McDonald,
Associate General Counsel for Regulatory Affairs.

Office of the Secretary—Proposed Rule Stage
Sequence No. | Title | Regulation Identifier No.
148 | Chemical Facility Anti-Terrorism Standards (CFATS) | 1601-AA69

Office of the Secretary—Long-Term Actions
Sequence No. | Title | Regulation Identifier No.
149 | Ammonium Nitrate Security Program | 1601-AA52

U.S. Citizenship and Immigration Services—Proposed Rule Stage
Sequence No. | Title | Regulation Identifier No.
150 | Requirements for Filing Motions and Administrative Appeals | 1615-AB98
151 | U.S. Citizenship and Immigration Services Fee Schedule | 1615-AC09

U.S. Citizenship and Immigration Services—Final Rule Stage
Sequence No. | Title | Regulation Identifier No.
152 | Retention of EB-1, EB-2, and EB-3 Immigrant Workers and Program Improvements Affecting Highly-Skilled H-1B Alien Workers | 1615-AC05

U.S. Coast Guard—Proposed Rule Stage
Sequence No. | Title | Regulation Identifier No.
153 | Commercial Fishing Vessels—Implementation of 2010 and 2012 Legislation | 1625-AB85

U.S. Coast Guard—Final Rule Stage
Sequence No. | Title | Regulation Identifier No.
154 | Inspection of Towing Vessels | 1625-AB06
155 | Transportation Worker Identification Credential (TWIC); Card Reader Requirements | 1625-AB21
156 | Seafarers' Access to Maritime Facilities | 1625-AC15

U.S. Coast Guard—Long-Term Actions
Sequence No. | Title | Regulation Identifier No.
157 | Numbering of Undocumented Barges | 1625-AA14
158 | Outer Continental Shelf Activities | 1625-AA18
159 | Updates to Maritime Security | 1625-AB38

U.S. Coast Guard—Completed Actions
Sequence No. | Title | Regulation Identifier No.
160 | Discharge Removal Equipment for Vessels Carrying Oil | 1625-AA02

U.S. Customs and Border Protection—Final Rule Stage
Sequence No. | Title | Regulation Identifier No.
161 | Implementation of the Guam-CNMI Visa Waiver Program (Section 610 Review) | 1651-AA77

U.S. Customs and Border Protection—Long-Term Actions
Sequence No. | Title | Regulation Identifier No.
162 | Importer Security Filing and Additional Carrier Requirements (Section 610 Review) | 1651-AA70

Transportation Security Administration—Proposed Rule Stage
Sequence No. | Title | Regulation Identifier No.
163 | Security Training for Surface Mode Employees | 1652-AA55

Transportation Security Administration—Long-Term Actions
Sequence No. | Title | Regulation Identifier No.
164 | General Aviation Security and Other Aircraft Operator Security | 1652-AA53
165 | Standardized Vetting, Adjudication, and Redress Services | 1652-AA61

Transportation Security Administration—Completed Actions
Sequence No. | Title | Regulation Identifier No.
166 | Passenger Screening Using Advanced Imaging Technology | 1652-AA67

U.S. Immigration and Customs Enforcement—Completed Actions
Sequence No. | Title | Regulation Identifier No.
167 | Improving and Expanding Training Opportunities for F-1 Nonimmigrant Students with STEM Degrees and Cap-Gap Relief for All Eligible F-1 Students (Completion of a Section 610 Review) | 1653-AA72

Federal Emergency Management Agency—Proposed Rule Stage
Sequence No. | Title | Regulation Identifier No.
168 | Updates to Floodplain Management and Protection of Wetlands Regulations to Implement Executive Order 13690 and the Federal Flood Risk Management Standard | 1660-AA85

DEPARTMENT OF HOMELAND SECURITY (DHS)

Office of the Secretary (OS)

Proposed Rule Stage

148. Chemical Facility Anti-Terrorism Standards (CFATS)

Legal Authority: Sec 550 of the Department of Homeland Security Appropriations Act of 2007 Pub. L. 109-295, as amended

Abstract: The Department of Homeland Security (DHS) previously invited public comment on an advance notice of proposed rulemaking (ANPRM) for potential revisions to the Chemical Facility Anti-Terrorism Standards (CFATS) regulations. The ANPRM provided an opportunity for the public to provide recommendations for possible program changes. DHS is reviewing the public comments received in response to the ANPRM, after which DHS intends to publish a Notice of Proposed Rulemaking.

Timetable:

Action | Date | FR Cite
ANPRM | 08/18/14 | 79 FR 48693
ANPRM Comment Period End | 10/17/14
NPRM | 09/00/16

Regulatory Flexibility Analysis Required: Yes.

Agency Contact: Jon MacLaren, Chief, Rulemaking Section, Department of Homeland Security, National Protection and Programs Directorate, Infrastructure Security Compliance Division (NPPD/ISCD), 245 Murray Lane, Mail Stop 0610, Arlington, VA 20528-0610, Phone: 703 235-5263, Fax: 703 603-4935, Email: jon.m.maclaren@hq.dhs.gov.

RIN: 1601-AA69

DEPARTMENT OF HOMELAND SECURITY (DHS)

Office of the Secretary (OS)

Long-Term Actions

149. Ammonium Nitrate Security Program

Legal Authority: Pub. L. 110-161, 2008 Consolidated Appropriations Act, section 563

Abstract: This rulemaking will implement the December 2007 amendment to the Homeland Security Act entitled “Secure Handling of Ammonium Nitrate.” The amendment requires the Department of Homeland Security to “regulate the sale and transfer of ammonium nitrate by an ammonium nitrate facility...to prevent the misappropriation or use of ammonium nitrate in an act of terrorism.”

Timetable:

Action | Date | FR Cite
ANPRM | 10/29/08 | 73 FR 64280
Correction | 11/05/08 | 73 FR 65783
ANPRM Comment Period End | 12/29/08 |
NPRM | 08/03/11 | 76 FR 46908
Notice of Public Meetings | 10/07/11 | 76 FR 62311
Notice of Public Meetings | 11/14/11 | 76 FR 70366
NPRM Comment Period End | 12/01/11 |
Next Action Undetermined

Regulatory Flexibility Analysis Required: Yes.

Agency Contact: Jon MacLaren, Chief, Rulemaking Section, Department of Homeland Security, National Protection and Programs Directorate, Infrastructure Security Compliance Division (NPPD/ISCD), 245 Murray Lane, Mail Stop 0610, Arlington, VA 20528-0610, Phone: 703 235-5263, Fax: 703 603-4935, Email: jon.m.maclaren@hq.dhs.gov.

RIN: 1601-AA52

DEPARTMENT OF HOMELAND SECURITY (DHS)

U.S. Citizenship and Immigration Services (USCIS)

Proposed Rule Stage

150. Requirements for Filing Motions and Administrative Appeals

Legal Authority: 5 U.S.C. 552; 5 U.S.C. 552a; 8 U.S.C. 1101; 8 U.S.C. 1103; 8 U.S.C. 1304; 6 U.S.C. 112

Abstract: This proposed rule proposes to revise the requirements and procedures for the filing of motions and appeals before the Department of Homeland Security (DHS), U.S. Citizenship and Immigration Services (USCIS), and its Administrative Appeals Office (AAO). The proposed changes are intended to streamline the existing processes for filing motions and appeals and will reduce delays in the review and appellate process. This rule also proposes additional changes necessitated by the establishment of DHS and its components. The proposed changes are intended to promote simplicity, accessibility, and efficiency in the administration of USCIS appeals. The Department also solicits public comment on proposed changes to the AAO's appellate jurisdiction.

Timetable:

Action | Date | FR Cite
NPRM | 04/00/17 |

Regulatory Flexibility Analysis Required: Yes.

Agency Contact: Charles “Locky” Nimick, Deputy Chief, Department of Homeland Security, U.S. Citizenship and Immigration Services, Administrative Appeals Office, 20 Massachusetts Avenue NW., Washington, DC 20529-2090, Phone: 703 224-4501, Email: charles.nimick@usics.dhs.gov.

RIN: 1615-AB98

151. U.S. Citizenship and Immigration Services Fee Schedule

Legal Authority: 8 U.S.C. 1356(m)

Abstract: This rule will propose to adjust the fee schedule for U.S. Citizenship and Immigration Services (USCIS) immigration and naturalization benefit applications and petitions, including nonimmigrant applications and visa petitions. These fees fund the cost of processing applications and petitions for immigration benefits and services, and USCIS' associated operating costs. USCIS is revising these fees because the current fee schedule does not adequately recover the full costs of services provided by USCIS. Without an adjustment of the fee schedule, USCIS cannot provide adequate capacity to process all applications and petitions in a timely and efficient manner. The fee review is undertaken pursuant to the requirements of the Chief Financial Officers Act of 1990 (CFO Act), 31 U.S.C. 901-03. The CFO Act requires each agency's chief financial officer (CFO) to “review, on a biennial basis, the fees, royalties, rents, and other charges imposed by the agency for services and things of value it provides, and make recommendations on revising those charges to reflect costs incurred by it in providing those services and things of value.”

Timetable:

Action | Date | FR Cite
NPRM | 05/04/16 | 81 FR 26904
NPRM Comment Period End | 07/05/16 |

Regulatory Flexibility Analysis Required: Yes.

Agency Contact: Joseph D. Moore, Chief Financial Officer, Department of Homeland Security, U.S. Citizenship and Immigration Services, Suite 4018, 20 Massachusetts Avenue NW., Washington, DC 20529, Phone: 202 272-1701, Fax: 202 272-1970, Email: joseph.moore@uscis.dhs.gov.

RIN: 1615-AC09

DEPARTMENT OF HOMELAND SECURITY (DHS)

U.S. Citizenship and Immigration Services (USCIS)

Final Rule Stage

152. Retention of EB-1, EB-2, and EB-3 Immigrant Workers and Program Improvements Affecting Highly-Skilled H-1B Alien Workers

Legal Authority: 6 U.S.C. 112; 8 U.S.C. 1154 and 1155; 8 U.S.C. 1184; 8 U.S.C. 1255; 8 U.S.C. 1324a

Abstract: In December 2015, the Department of Homeland Security (DHS) proposed to amend its regulations affecting certain employment-based immigrant and nonimmigrant classifications. This rule proposes to amend current regulations to provide stability and job flexibility for the beneficiaries of approved employment-based immigrant visa petitions while they wait to become lawful permanent residents. DHS is also proposing to conform its regulations with the American Competitiveness in the Twenty-First Century Act of 2000 (AC21) as amended by the Twenty-First Century Department of Justice Appropriations Authorization Act (the 21st Century DOJ Appropriations Act), as well as the American Competitiveness and Workforce Improvement Act of 1998 (ACWIA). The rule also seeks to clarify several interpretive questions raised by ACWIA and AC21 regarding H-1B petitions, and incorporate relevant AC21 policy memoranda and an Administrative Appeals Office precedent decision, and would ensure that DHS practice is consistent with them.

Timetable:

Action | Date | FR Cite
NPRM | 12/31/15 | 80 FR 81900
NPRM Comment Period End | 02/29/16 |
Final Rule | 05/00/16 |

Regulatory Flexibility Analysis Required: Yes.

Agency Contact: Kevin Cummings, Branch Chief, Business and Foreign Workers Division, Department of Homeland Security, U.S. Citizenship and Immigration Services, Second Floor, Office of Policy and Strategy, 20 Massachusetts Avenue NW., Washington, DC 20529, Phone: 202 272-1470, Fax: 202 272-1480, Email: kevin.cummings@uscis.dhs.gov.

RIN: 1615-AC05

DEPARTMENT OF HOMELAND SECURITY (DHS)

U.S. Coast Guard (USCG)

Proposed Rule Stage

153. Commercial Fishing Vessels—Implementation of 2010 and 2012 Legislation

Legal Authority: Pub. L. 111-281

Abstract: The Coast Guard proposes to implement those requirements of 2010 and 2012 legislation that pertain to uninspected commercial fishing industry vessels and that took effect upon enactment of the legislation but that, to be implemented, require amendments to Coast Guard regulations affecting those vessels. The applicability of the regulations is being changed, and new requirements are being added to safety training, equipment, vessel examinations, vessel safety standards, the documentation of maintenance, and the termination of unsafe operations. This rulemaking promotes the Coast Guard's maritime safety mission.

Timetable:

Action | Date | FR Cite
NPRM | 05/00/16 |
NPRM Comment Period End | 08/00/16 |

Regulatory Flexibility Analysis Required: Yes.

Agency Contact: Jack Kemerer, Project Manager, CG-CVC-3, Department of Homeland Security, U.S. Coast Guard, 2703 Martin Luther King Jr., Avenue SE., STOP 7501, Washington, DC 20593-7501, Phone: 202 372-1249, Email: jack.a.kemerer@uscg.mil.

RIN: 1625-AB85

DEPARTMENT OF HOMELAND SECURITY (DHS)

U.S. Coast Guard (USCG)

Final Rule Stage

154. Inspection of Towing Vessels

Legal Authority: 46 U.S.C. 3103; 46 U.S.C. 3301; 46 U.S.C. 3306; 46 U.S.C. 3308; 46 U.S.C. 3316; 46 U.S.C. 3703; 46 U.S.C. 8104; 46 U.S.C. 8904; DHS Delegation No 0170.1

Abstract: This rulemaking would implement a program of inspection for certification of towing vessels, which were previously uninspected. It would prescribe standards for safety management systems and third-party auditors and surveyors, along with standards for construction, operation, vessel systems, safety equipment, and recordkeeping.

Timetable:

Action | Date | FR Cite
NPRM | 08/11/11 | 76 FR 49976
Notice of Public Meetings | 09/09/11 | 76 FR 55847
NPRM Comment Period End | 12/09/11 |
Final Rule | 06/00/16 |

Regulatory Flexibility Analysis Required: Yes.

Agency Contact: LCDR William Nabach, Project Manager, Office of Operating & Environmental Standards, CG-OES-2, Department of Homeland Security, U.S. Coast Guard, 2703 Martin Luther King Jr. Avenue SE., STOP 7509, Washington, DC 20593-7509, Phone: 202 372-1386, Email: william.a.nabach@uscg.mil.

RIN: 1625-AB06

155. Transportation Worker Identification Credential (TWIC); Card Reader Requirements

Legal Authority: 33 U.S.C. 1226; 33 U.S.C. 1231; 46 U.S.C. 701; 50 U.S.C. 191; 50 U.S.C. 192; E.O. 12656

Abstract: The Coast Guard is establishing electronic card reader requirements for maritime facilities and vessels to be used in combination with TSA's Transportation Worker Identification Credential (TWIC). Congress enacted several statutory requirements within the Security and Accountability for Every (SAFE) Port Act of 2006 to guide regulations pertaining to TWIC readers, including the need to evaluate TSA's final pilot program report as part of the TWIC reader rulemaking. During the rulemaking process, we will take into account the final pilot data and the various conditions in which TWIC readers may be employed. For example, we will consider the types of vessels and facilities that will use TWIC readers, locations of secure and restricted areas, operational constraints, and need for accessibility. Recordkeeping requirements, amendments to security plans, and the requirement for data exchanges (i.e., Canceled Card List) between TSA and vessel or facility owners/operators will also be addressed in this rulemaking.

Timetable:

Action | Date | FR Cite
ANPRM | 03/27/09 | 74 FR 13360
Notice of Public Meeting | 04/15/09 | 74 FR 17444
ANPRM Comment Period End | 05/26/09 |
Notice of Public Meeting Comment Period End | 05/26/09 |
NPRM | 03/22/13 | 78 FR 20558
NPRM Comment Period Extended | 05/10/13 | 78 FR 27335
NPRM Comment Period Extended End | 06/20/13 |
Final Rule | 08/00/16 |

Regulatory Flexibility Analysis Required: Yes.

Agency Contact: LT Mason Wilcox, Project Manager, Department of Homeland Security, U.S. Coast Guard, Commandant (CG-FAC-2), 2703 Martin Luther King Jr., Avenue SE., STOP 7501, Washington, DC 20593-7501, Phone: 202 372-1123, Email: mason.c.wilcox@uscg.mil.

RIN: 1625-AB21

156. Seafarers' Access to Maritime Facilities

Legal Authority: 33 U.S.C. 1226; 33 U.S.C. 1231; Pub. L. 111-281, sec 811

Abstract: This regulatory action will implement section 811 of the Coast Guard Authorization Act of 2010 (Pub. L. 111-281), which requires the owner/operator of a facility regulated by the Coast Guard under the Maritime Transportation Security Act of 2002 (Pub. L. 107-295) (MTSA) to provide a system that enables seafarers and certain other individuals to transit between vessels moored at the facility and the facility gate in a timely manner at no cost to the seafarer or other individual. Ensuring that such access through a facility is consistent with the security requirements in MTSA is part of the Coast Guard's Ports, Waterways, and Coastal Security (PWCS) mission.

Timetable:

Action | Date | FR Cite
NPRM | 12/29/14 | 79 FR 77981
NPRM Comment Period Reopened | 05/27/15 | 80 FR 30189
NPRM Comment Period End | 07/01/15 |
Final Rule | 09/00/16 |

Regulatory Flexibility Analysis Required: Yes.

Agency Contact: LCDR Kevin McDonald, Project Manager, Department of Homeland Security, U.S. Coast Guard, 2703 Martin Luther King Jr., Avenue SE., Commandant (CG-FAC-2), STOP 7501, Washington, DC 20593-7501, Phone: 202 372-1168, Email: kevin.j.mcdonald@uscg.mil.

RIN: 1625-AC15

DEPARTMENT OF HOMELAND SECURITY (DHS)

U.S. Coast Guard (USCG)

Long-Term Actions

157. Numbering of Undocumented Barges

Legal Authority: 46 U.S.C. 12301

Abstract: Title 46 U.S.C. 12301, as amended by the Abandoned Barge Act of 1992, requires that all undocumented barges of more than 100 gross tons operating on the navigable waters of the United States be numbered. This rulemaking would establish a numbering system and user fees for an original or renewed Certificate of Number for these barges. The numbering of undocumented barges allows the Coast Guard to identify the owners of abandoned barges. This rulemaking supports the Coast Guard's broad role and responsibility of protecting natural resources.

Timetable:

Action | Date | FR Cite
Request for Comments | 10/18/94 | 59 FR 52646
Comment Period End | 01/17/95 |
ANPRM | 07/06/98 | 63 FR 36384
ANPRM Comment Period End | 11/03/98 |
NPRM | 01/11/01 | 66 FR 2385
NPRM Comment Period End | 04/11/01 |
NPRM Reopening of Comment Period | 08/12/04 | 69 FR 49844
NPRM Reopening Comment Period End | 11/10/04 |
Supplemental NPRM | To Be Determined

Regulatory Flexibility Analysis Required: Yes.

Agency Contact: Denise Harmon, Project Manager, Department of Homeland Security, U.S. Coast Guard, National Vessel Documentation Center, 792 T.J. Jackson Drive, Falling Waters, WV 25419, Phone: 304 271-2506, Email: denise.e.harmon@uscg.mil.

RIN: 1625-AA14

158. Outer Continental Shelf Activities

Legal Authority: 43 U.S.C. 1333(d)(1); 43 U.S.C. 1348(c); 43 U.S.C. 1356; DHS Delegation No 0170.1

Abstract: The Coast Guard is the lead Federal agency for workplace safety and health on facilities and vessels engaged in the exploration for, or development, or production of, minerals on the Outer Continental Shelf (OCS), other than for matters generally related to drilling and production that are regulated by the Bureau of Safety and Environmental Enforcement (BSEE). This project would revise the regulations on OCS activities by: (1) Adding new requirements, for OCS units for lifesaving, fire protection, training, and helidecks; (2) providing for USCG acceptance and approval of specified classification society plan reviews, inspections, audits, and surveys; and (3) requiring foreign vessels engaged in OCS activities to comply with rules similar to those imposed on U.S. vessels similarly engaged. This project would affect the owners and operators of facilities and vessels engaged in offshore activities.

Timetable:

Action | Date | FR Cite
Request for Comments | 06/27/95 | 60 FR 33185
Comment Period End | 09/25/95 |
NPRM | 12/07/99 | 64 FR 68416
NPRM Correction | 02/22/00 | 65 FR 8671
NPRM Comment Period Extended | 03/16/00 | 65 FR 14226
NPRM Comment Period Extended | 06/30/00 | 65 FR 40559
NPRM Comment Period End | 11/30/00
Supplemental NPRM | To Be Determined

Regulatory Flexibility Analysis Required: Yes.

Agency Contact: Charles Rawson, Project Manager, Department of Homeland Security, U.S. Coast Guard, Commandant (CG-ENG-2), 2703 Martin Luther King Jr., Avenue SE., STOP 7509, Washington, DC 20593-7509, Phone: 202 372-1390, Email: charles.e.rawson@uscg.mil.

RIN: 1625-AA18

159. Updates to Maritime Security

Legal Authority: 33 U.S.C. 1226; 33 U.S.C. 1231; 46 U.S.C. 701; 50 U.S.C. 191 and 192; E.O. 12656; 33 CFR 1.05-1; 33 CFR 6.04-11; 33 CFR 6.14; 33 CFR 6.16; 33 CFR 6.19; DHS Delegation No. 0170.1

Abstract: The Coast Guard proposes certain additions, changes, and amendments to 33 CFR subchapter H. Subchapter H is comprised of parts 101 through 106. Subchapter H implements the major provisions of the Maritime Transportation Security Act of 2002 (MTSA). This rulemaking is the first major revision to subchapter H. The proposed changes would further the goals of domestic compliance and international cooperation by incorporating requirements from legislation implemented since the original publication of these regulations, such as the Security and Accountability for Every (SAFE) Port Act of 2006, and including international standards such as Standards of Training, Certification & Watchkeeping security training. This rulemaking has international interest because of the close relationship between subchapter H and the International Ship and Port Security Code (ISPS).

Timetable:

Action | Date | FR Cite
NPRM | To Be Determined

Regulatory Flexibility Analysis Required: Yes.

Agency Contact: LCDR Kevin McDonald, Project Manager, Department of Homeland Security, U.S. Coast Guard, 2703 Martin Luther King Jr., Avenue SE., Commandant (CG-FAC-2), STOP 7501, Washington, DC 20593-7501, Phone: 202 372-1168, Email: kevin.j.mcdonald@uscg.mil.

RIN: 1625-AB38

DEPARTMENT OF HOMELAND SECURITY (DHS)

U.S. Coast Guard (USCG)

Completed Actions

160. Discharge Removal Equipment for Vessels Carrying Oil

Legal Authority: 33 U.S.C. 1321

Abstract: The Oil Pollution Act of 1990 directed the President by August 18, 1992, to require periodic inspection of discharge-removal equipment to ensure that it is available in an emergency, and to require carriage of discharge removal equipment by vessels operating in the navigable waters of the United States and carrying oil or hazardous substances. This action implemented those provisions. This project supports the Coast Guard's broad role and responsibility of maritime stewardship.

Timetable:

Action | Date | FR Cite
ANPRM | 08/30/91 | 56 FR 43534
ANPRM Comment Period End | 10/16/91 |
NPRM | 09/29/92 | 57 FR 44912
NPRM Comment Period Extended | 10/26/92 | 57 FR 48489
NPRM Comment Period End | 10/29/92 |
NPRM Comment Period Extended | 11/16/92 | 57 FR 48489
Interim Final Rule | 12/22/93 | 58 FR 67988
Interim Final Rule Effective | 01/21/94 |
Correction | 01/26/94 | 59 FR 3749
Interim Final Rule Comment Period End | 02/22/94 |
Notice | 03/27/12 | 77 FR 18151
Notice Comment Period End | 05/29/12 |
Final Rule | 04/07/16 | 81 FR 20247
Final Rule Effective | 05/09/16 |

Regulatory Flexibility Analysis Required: Yes.

Agency Contact: David A. Du Pont, Project Manager, CG-REG, Department of Homeland Security, U.S. Coast Guard, Office of Standards Evaluation and Development, 2703 Martin Luther King Jr., Avenue SE., STOP 7418, Washington, DC 20593-7418, Phone: 202 372-1497, Email: david.a.dupont@uscg.mil.

RIN: 1625-AA02

DEPARTMENT OF HOMELAND SECURITY (DHS)

U.S. Customs and Border Protection (USCBP)

Final Rule Stage

161. Implementation of the Guam-CNMI Visa Waiver Program (Section 610 Review)

Legal Authority: Pub. L. 110-229, sec 702

Abstract: The interim final rule (or the final rule planned for the coming year) amends Department of Homeland Security (DHS) regulations to implement section 702 of the Consolidated Natural Resources Act of 2008 (CNRA). This law extends the immigration laws of the United States to the Commonwealth of the Northern Mariana Islands (CNMI) and provides for a joint visa waiver program for travel to Guam and the CNMI. This rule implements section 702 of the CNRA by amending the regulations to replace the current Guam Visa Waiver Program with a new Guam-CNMI Visa Waiver Program. The amended regulations set forth the requirements for nonimmigrant visitors who seek admission for business or pleasure and solely for entry into and stay on Guam or the CNMI without a visa. This rule also establishes six ports of entry in the CNMI for purposes of administering and enforcing the Guam-CNMI Visa Waiver Program. Section 702 of the Consolidated Natural Resources Act of 2008 (CNRA), subject to a transition period, extends the immigration laws of the United States to the Commonwealth of the Northern Mariana Islands (CNMI) and provides for a visa waiver program for travel to Guam and/or the CNMI. On January 16, 2009, the Department of Homeland Security (DHS), Customs and Border Protection (CBP), issued an interim final rule in the Federal Register replacing the then-existing Guam Visa Waiver Program with the Guam-CNMI Visa Waiver Program and setting forth the requirements for nonimmigrant visitors seeking admission into Guam and/or the CNMI under the Guam-CNMI Visa Waiver Program. As of November 28, 2009, the Guam-CNMI Visa Waiver Program is operational. This program allows nonimmigrant visitors from eligible countries to seek admission for business or pleasure for entry into Guam and/or the CNMI without a visa for a period of authorized stay not to exceed 45 days. This rulemaking would finalize the January 2009 interim final rule.

Timetable:

Action | Date | FR Cite
Interim Final Rule | 01/16/09 | 74 FR 2824
Interim Final Rule Effective | 01/16/09 |
Interim Final Rule Comment Period End | 03/17/09 |
Technical Amendment; Change of Implementation Date | 05/28/09 | 74 FR 25387
Final Action | 02/00/17 |

Regulatory Flexibility Analysis Required: No.

Agency Contact: Stephanie Watson, Supervisory Program Manager, Department of Homeland Security, U.S. Customs and Border Protection, Office of Field Operations, 1300 Pennsylvania Avenue NW., 2.5B-38, Washington, DC 20229, Phone: 202 325-4548, Email: stephanie.e.watson@cbp.dhs.gov.

RIN: 1651-AA77

DEPARTMENT OF HOMELAND SECURITY (DHS)

U.S. Customs and Border Protection (USCBP)

Long-Term Actions

162. Importer Security Filing and Additional Carrier Requirements (Section 610 Review)

Legal Authority: Pub. L. 109-347, sec 203; 5 U.S.C. 301; 19 U.S.C. 66; 19 U.S.C. 1431; 19 U.S.C. 1433 to 1434; 19 U.S.C. 1624; 19 U.S.C. 2071 (note); 46 U.S.C. 60105

Abstract: This final rule implements the provisions of section 203 of the Security and Accountability for Every Port Act of 2006. On November 25, 2008, Customs and Border Protection (CBP) published an interim final rule (CBP Dec. 08-46) in the Federal Register (73 FR 71730), that finalized most of the provisions proposed in the NPRM. It requires carrier and importers to provide to CBP, via a CBP approved electronic data interchange system, certain advance information pertaining to cargo brought into the United States by vessel to enable CBP to identify high-risk shipments to prevent smuggling and ensure cargo safety and security. The interim final rule did not finalize six data elements that were identified as areas of potential concern for industry during the rulemaking process and, for which, CBP provided some type of flexibility for compliance with those data elements. CBP solicited public comment on these six data elements, is conducting a structured review, and also invited comments on the revised Regulatory Assessment and Final Regulatory Flexibility Analysis. (See 73 FR 71782-85 for regulatory text and 73 CFR 71733-34 for general discussion.) The remaining requirements of the rule were adopted as final. CBP plans to issue a final rule after CBP completes a structured review of the flexibilities and analyzes the comments.

Timetable:

Action | Date | FR Cite
NPRM | 01/02/08 | 73 FR 90
NPRM Comment Period End | 03/03/08
NPRM Comment Period Extended | 02/01/08 | 73 FR 6061
NPRM Comment Period End | 03/18/08
Interim Final Rule | 11/25/08 | 73 FR 71730
Interim Final Rule Effective | 01/26/09
Interim Final Rule Comment Period End | 06/01/09
Correction | 07/14/09 | 74 FR 33920
Correction | 12/24/09 | 74 FR 68376
Final Action | 09/00/17

Regulatory Flexibility Analysis Required: Yes.

Agency Contact: Craig Clark, Program Manager, Vessel Manifest & Importer Security Filing, Office of Cargo and Conveyance Security, Department of Homeland Security, U.S. Customs and Border Protection, 1300 Pennsylvania Avenue NW., Washington, DC 20229, Phone: 202 344-3052, Email: craig.clark@cbp.dhs.gov.

RIN: 1651-AA70

DEPARTMENT OF HOMELAND SECURITY (DHS)

Transportation Security Administration (TSA)

Proposed Rule Stage

163. Security Training for Surface Mode Employees

Legal Authority: 49 U.S.C. 114; Pub. L. 110-53, secs 1408, 1517, and 1534

Abstract: This rule would require security awareness training for front-line employees for potential terrorism-related security threats and conditions pursuant to the 9/11 Act. This rule would apply to higher-risk public transportation, freight rail, and over-the-road bus owner/operators and take into consideration the many actions higher-risk owner/operators have already taken since 9/11 to enhance the baseline of security through training of their employees. The rulemaking will also propose extending security coordinator and reporting security incident requirements applicable to rail operators under current 49 CFR part 1580 to the non-rail transportation components of covered public transportation agencies and over-the-road buses.

Timetable:

Action | Date | FR Cite
NPRM | 09/00/16

Regulatory Flexibility Analysis Required: Yes.

Agency Contact: Chandru (Jack) Kalro, Deputy Director, Surface Division, Office of Security Policy and Industry Engagement, Department of Homeland Security, Transportation Security Administration, 601 South 12th Street, Arlington, VA 20598-6028, Phone: 571 227-1145, Fax: 571 227-2935, Email: surfacefrontoffice@tsa.dhs.gov.

Monica Grasso Ph.D., Manager, Economic Analysis Branch—Cross Modal Division, Department of Homeland Security, Transportation Security Administration, Office of Security Policy and Industry Engagement, 601 South 12th Street, Arlington, VA 20598-6028, Phone: 571 227-3329, Email: monica.grasso@tsa.dhs.gov.

Traci Klemm, Assistant Chief Counsel for Multi-Modal Security Standards, Department of Homeland Security, Transportation Security Administration, Office of the Chief Counsel, 601 South 12th Street, Arlington, VA 20598-6002, Phone: 571 227-3596, Email: traci.klemm@tsa.dhs.gov.

RIN: 1652-AA55

DEPARTMENT OF HOMELAND SECURITY (DHS)

Transportation Security Administration (TSA)

Long-Term Actions

164. General Aviation Security and Other Aircraft Operator Security

Legal Authority: 6 U.S.C. 469; 18 U.S.C. 842; 18 U.S.C. 845; 46 U.S.C. 70102 to 70106; 46 U.S.C. 70117; 49 U.S.C. 114; 49 U.S.C. 114(f)(3); 49 U.S.C. 5103; 49 U.S.C. 5103a; 49 U.S.C. 40113; 49 U.S.C. 44901 to 44907; 49 U.S.C. 44913 to 44914; 49 U.S.C. 44916 to 44918; 49 U.S.C. 44932; 49 U.S.C. 44935 to 44936; 49 U.S.C. 44942; 49 U.S.C. 46105

Abstract: On October 30, 2008, the Transportation Security Administration (TSA) issued a notice of proposed rulemaking (NPRM), proposing to amend current aviation transportation security regulations to enhance the security of general aviation by expanding the scope of current requirements, and by adding new requirements for certain large aircraft operators and airports serving those aircraft. TSA also proposed that all aircraft operations, including corporate and private charter operations, with aircraft having a maximum certificated takeoff weight (MTOW) above 12,500 pounds (large aircraft) be required to adopt a large aircraft security program. TSA also proposed to require certain airports that serve large aircraft to adopt security programs. After considering comments received on the NPRM and sponsoring public meetings with stakeholders, TSA decided to prepare a supplemental NPRM (SNPRM), which will include a comment period for public comments. TSA is considering the following proposed provisions in the SNPRM: (1) Security measures for foreign aircraft operators commensurate with measures for U.S. operators, (2) security measures for certain general aviation aircraft operations, (3) watch list matching of passengers, and (5) scope of the background check requirements and the procedures used to implement any requirement.

Timetable:

Action | Date | FR Cite
NPRM | 10/30/08 | 73 FR 64790
NPRM Comment Period End | 12/29/08
Notice—NPRM Comment Period Extended | 11/25/08 | 73 FR 71590
NPRM Extended Comment Period End | 02/27/09
Notice—Public Meetings; Requests for Comments | 12/18/08 | 73 FR 77045
Supplemental NPRM | To Be Determined

Regulatory Flexibility Analysis Required: Yes.

Agency Contact: Alan Paterno, Section Chief, Policy Analysis Branch, Department of Homeland Security, Transportation Security Administration, Office of Security Policy and Industry Engagement, 601 South 12th Street, Arlington, VA 20598-6028, Phone: 571 227-5698, Email: alan.paterno@tsa.dhs.gov.

Monica Grasso Ph.D., Manager, Economic Analysis Branch—Cross Modal Division, Department of Homeland Security, Transportation Security Administration, Office of Security Policy and Industry Engagement, 601 South 12th Street, Arlington, VA 20598-6028, Phone: 571 227-3329, Email: monica.grasso@tsa.dhs.gov.

Denise Daniels, Attorney-Advisor, Regulations and Security Standards, Department of Homeland Security, Transportation Security Administration, Office of the Chief Counsel, 601 South 12th Street, Arlington, VA 20598-6002, Phone: 571 227-3443, Fax: 571 227-1381, Email: denise.daniels@tsa.dhs.gov.

RIN: 1652-AA53

165. Standardized Vetting, Adjudication, and Redress Services

Legal Authority: 49 U.S.C. 114, 5103A, 44903 and 44936; 46 U.S.C. 70105; 6 U.S.C. 469; Pub. L. 110-53, secs 1411, 1414, 1520, 1522 and 1531

Abstract: The Transportation Security Administration (TSA) intends to propose new regulations to revise and standardize the procedures, adjudication criteria, and fees for most of the security threat assessments (STA) of individuals for which TSA is responsible. The scope of the rulemaking will include transportation workers who are required to undergo an STA, including surface, maritime, and aviation workers. TSA will comply with certain vetting-related requirements of the Implementing Recommendations of the 9/11 Commission Act, Public Law 110-53 (Aug. 3, 2007). TSA will propose fees to cover the cost of all STAs. TSA plans to improve the processing of STAs and streamline existing regulations by simplifying language and removing redundancies. TSA will propose revisions to the Alien Flight Student Program (AFSP) regulations. TSA published an interim final rule for AFSP on September 20, 2004. TSA regulations require aliens seeking to train at Federal Aviation Administration-regulated flight schools to complete an application and undergo an STA prior to beginning flight training. There are four categories under which students currently fall; the nature of the STA depends on the student's category. TSA is considering changes to the AFSP that would improve the equity among fee payers and enable the implementation of new technologies to support vetting.

Timetable:

Action | Date | FR Cite
NPRM | To Be Determined

Regulatory Flexibility Analysis Required: Yes.

Agency Contact: Chang Ellison, Branch Manager, Program Initiatives Branch, Department of Homeland Security, Transportation Security Administration, Office of Intelligence and Analysis, TSA-10, HQ E6, 601 South 12th Street, Arlington, VA 20598-6010, Phone: 571 227-3604, Email: chang.ellison@tsa.dhs.gov.

Monica Grasso Ph.D., Manager, Economic Analysis Branch-Cross Modal Division, Department of Homeland Security, Transportation Security Administration, Office of Security Policy and Industry Engagement, 601 South 12th Street, Arlington, VA 20598-6028, Phone: 571 227-3329, Email: monica.grasso@tsa.dhs.gov.

John Vergelli, Senior Counsel, Regulations and Security Standards Division, Department of Homeland Security, Transportation Security Administration, Office of the Chief Counsel, 601 South 12th Street, Arlington, VA 20598-6002, Phone: 571 227-4416, Fax: 571 227-1378, Email: john.vergelli@tsa.dhs.gov.

RIN: 1652-AA61

DEPARTMENT OF HOMELAND SECURITY (DHS)

Transportation Security Administration (TSA)

Completed Actions

166. Passenger Screening Using Advanced Imaging Technology

Legal Authority: 49 U.S.C. 44925

Abstract: The Transportation Security Administration (TSA) issued a final rule to address whether screening and inspection of an individual, conducted to control access to the sterile area of an airport or to an aircraft, may include the use of advanced imaging technology (AIT). The notice of proposed rulemaking (NPRM) was published on March 26, 2013, to comply with the decision rendered by the U.S. Court of Appeals for the District of Columbia Circuit in Electronic Privacy Information Center (EPIC) v. U.S. Department of Homeland Security on July 15, 2011. 653 F.3d 1 (D.C. Cir. 2011). The Court directed TSA to conduct notice and comment rulemaking on the use of AIT in the primary screening of passengers. The final rule makes clear that TSA no longer uses images of actual passengers and now uses a generic image through the use of ATR technology installed on all AIT machines. The rule emphasizes that AIT is the best available technology to detect both metallic and non-metallic objects and safeguards agency flexibility to respond to evolving threats.

Timetable:

Action | Date | FR Cite
NPRM | 03/26/13 | 78 FR 18287
NPRM Comment Period End | 06/24/13
Final Rule | 03/03/16 | 81 FR 11363
Final Rule Effective | 05/02/16

Regulatory Flexibility Analysis Required: Yes.

Agency Contact: Chawanna Carrington, Project Manager, Passenger Screening Program, Department of Homeland Security, Transportation Security Administration, Office of Security Capabilities, 601 South 12th Street, Arlington, VA 20598-6016, Phone: 571 227-2958, Fax: 571 227-1931, Email: chawanna.carrington@tsa.dhs.gov.

Monica Grasso Ph.D., Manager, Economic Analysis Branch-Cross Modal Division, Department of Homeland Security, Transportation Security Administration, Office of Security Policy and Industry Engagement, 601 South 12th Street, Arlington, VA 20598-6028, Phone: 571 227-3329, Email: monica.grasso@tsa.dhs.gov.

Susan Prosnitz, Deputy Chief Counsel for Regulations and Security Standards, Department of Homeland Security, Transportation Security Administration, Office of the Chief Counsel, 601 South 12th Street, Arlington, VA 20598-6002, Phone: 571 227-1335, Fax: 571 227-1381, Email: susan.prosnitz@tsa.dhs.gov.

RIN: 1652-AA67

DEPARTMENT OF HOMELAND SECURITY (DHS)

U.S. Immigration and Customs Enforcement (USICE)

Completed Actions

167. Improving and Expanding Training Opportunities for F-1 Nonimmigrant Students With STEM Degrees and Cap-Gap Relief For All Eligible F-1 Students (Completion of a Section 610 Review)

Legal Authority: 8 U.S.C. 1101; 8 U.S.C. 1103; 8 U.S.C. 1182; 8 U.S.C. 1184; 8 U.S.C. 1221; 8 U.S.C. 1281 and 1282; 8 U.S.C. 1302 to 1305; 8 U.S.C. 1324a

Abstract: The Department of Homeland Security is proposing a new rule to enhance opportunities for F-1 nonimmigrant students graduating with a science, technology, engineering, or mathematics (STEM) degree from an accredited school certified by U.S. Immigration and Custom Enforcement (ICE) Student and Exchange Visitor Program (SEVP), and to further their courses of study through optional practical training (OPT) with employers enrolled in the U.S. Citizenship and Immigration Services' (USCIS') E-Verify employment verification program. The proposed rule would replace a 2008 interim final rule (IFR) that was invalidated and will be vacated on May 10, 2016, per a ruling by the U.S. District Court for the District of Columbia, in the Washington Alliance of Technology Workers v. U.S. Department of Homeland Security litigation.

Timetable:

Action | Date | FR Cite
NPRM | 10/19/15 | 80 FR 63375
NPRM Comment Period End | 11/18/15 |
Final Rule | 03/11/16 | 81 FR 13039
Final Rule Effective | 05/10/16 |

Regulatory Flexibility Analysis Required: Yes.

Agency Contact: Molly Stubbs, ICE Regulatory Coordinator, Department of Homeland Security, U.S. Immigration and Customs Enforcement, Office of the Director, PTN—Potomac Center North, 500 12th Street SW., Washington, DC 20536, Phone: 202 732-6202, Email: molly.stubbs@ice.dhs.gov.

Brad Tuttle, Attorney Advisor, Department of Homeland Security, U.S. Immigration and Customs Enforcement, 500 12th Street SW., Washington, DC 20536, Phone: 202 732-5000, Email: bradley.c.tuttle@ice.dhs.gov.

Katherine H. Westerlund, Acting Unit Chief, SEVP Policy, Student and Exchange Visitor Program, Department of Homeland Security, U.S. Immigration and Customs Enforcement, Potomac Center North, STOP 5600, 500 12th Street, SW., Washington, DC 20536-5600, Phone: 703 603-3400, Email: sevp@ice.dhs.gov.

RIN: 1653-AA72

DEPARTMENT OF HOMELAND SECURITY (DHS)

Federal Emergency Management Agency (FEMA)

Proposed Rule Stage

168. Updates to Floodplain Management and Protection of Wetlands Regulations To Implement Executive Order 13690 and the Federal Flood Risk Management Standard

Legal Authority: E.O. 11988, as amended; E.O. 13690

Abstract: The Federal Emergency Management Agency (FEMA) proposes to amend its regulations at 44 CFR part 9 “Floodplain Management and Protection of Wetlands” to implement Executive Order 13690, which establishes the Federal Flood Risk Management Standard (FFRMS). 44 CFR part 9 describes FEMA's process for determining whether the proposed location for an action falls within a floodplain. In addition, for those projects that would fall within a floodplain, part 9 describes FEMA's framework for deciding whether and how to complete the action in the floodplain, in light of the risk of flooding. Consistent with Executive Order 13690 and the FFRMS, the proposed rule would change how FEMA defines a floodplain with respect to certain actions. Additionally, under the proposed rule, FEMA would use natural systems, ecosystem process, and nature-based approaches, where practicable, when developing alternatives to locating a proposed action in the floodplain.

Timetable:

Action | Date | FR Cite
NPRM | 07/00/16 |

Regulatory Flexibility Analysis Required: Yes.

Agency Contact: Kristin Fontenot, Office of Environmental and Historic Preservation, Department of Homeland Security, Federal Emergency Management Agency, 400 C Street, SW., Washington, DC 20472, Phone: 202 646-2741, Email: kristin.fontenot@fema.dhs.gov.

RIN: 1660-AA85

[FR Doc. 2016-12906 Filed 6-8-16; 8:45 am]

BILLING CODE 9110-9B-P